DEPARTMENT OF AGRICULTURE

Submission for OMB Review; Comment Request

March 15, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Natural Resources and Conservation Service

Title: Volunteer Program—Earth Team.

OMB Control Number: 0578-0024.

Summary of Collection: Volunteers have been a valuable human resource to the Natural Resources Conservation Service (NRCS) since 1985. NRCS is authorized by the Federal Personnel Manual (FPM) Supplement 296-33, Subchapter 22, to recruit, train and accept, with regard to Civil Service classification law, rules, or regulations, the service of individuals to serve without compensation. Volunteers may assist in any agency program/project and may perform any activities which agency employees are allowed to do. Volunteers must be 14 years of age. NRCS will collect information using several NRCS forms.

Need and Use of the Information: NRCS will collect information on the type of skills and type of work the volunteers are interested in doing. NRCS will also collect information to implement and evaluate the effectiveness of the volunteer program. Without the information, NRCS would not know which individuals are interested in volunteering.

Description of Respondents: Individuals or households; Business or other for-profit; Not-for-profit institutions; State, Local, or Tribal Government.

Number of Respondents: 23,540.

Frequency of Responses: Reporting: Semi-annually.

Total Burden Hours: 1,411.

Ruth Brown,
Departmental Information Collection Clearance Officer.

[FR Doc. E6-3983 Filed 3-17-06; 8:45 am]

BILLING CODE 3410-16-P